DEPARTMENT OF ENERGY

Federal Energy Regulatory Commission

Combined Notice of Filings #1

Take notice that the Commission received the following electric rate filings:

Docket Numbers: ER10-2532-018.

Applicants: Crescent Ridge LLC.

Description: Notice of Change in Status of Crescent Ridge LLC, et al.

Filed Date: 3/2/22.

Accession Number: 20220302-5292.

Comment Date: 5 p.m. ET 3/23/22.

Docket Numbers: ER13-2387-007; ER15-190-013; ER10-1333-014; ER18-1343-006.

Applicants: Carolina Solar Power, LLC, Duke Energy Commercial Enterprises, Inc., Duke Energy Renewable Services, LLC, Duke Energy Florida, Inc.

Description: Amendment to June 12, 2020 Notice of Change in Status of the Duke MBR Sellers et al.

Filed Date: 2/14/22.

Accession Number: 20220214-5282.

Comment Date: 5 p.m. ET 3/24/22.

Docket Numbers: ER16-1804-003.

Applicants: Deepwater Wind Block Island, LLC.

Description: Compliance filing: Notice of Change in Status and Revised MBR Tariff to be effective 3/4/2022.

Filed Date: 3/3/22.

Accession Number: 20220303-5087.

Comment Date: 5 p.m. ET 3/24/22.

Docket Numbers: ER18-664-003.

Applicants: Steamboat Hills LLC.

Description: Notice of Non-Material Change in Status of Steamboat Hills LLC.

Filed Date: 3/3/22.

Accession Number: 20220303-5120.

Comment Date: 5 p.m. ET 3/24/22.

Docket Numbers: ER20-2717-001; ER20-2714-001.

Applicants: Headwaters Wind Farm II LLC, Crossing Trails Wind Power Project LLC.

Description: Notice of Change in Status of Crossing Trails Wind Power Project LLC, et. al.

Filed Date: 3/2/22.

Accession Number: 20220302-5293.

Comment Date: 5 p.m. ET 3/23/22.

Docket Numbers: ER20-2881-003; ER21-110-001.

Applicants: Harts Mill TE Holdings LLC, Harts Mill Solar, LLC.

Description: Notice of Change in Status of Harts Mill Solar, LLC, et al.

Filed Date: 3/3/22.

Accession Number: 20220303-5122.

Comment Date: 5 p.m. ET 3/24/22.

Docket Numbers: ER21-6-001.

Applicants: Muscle Shoals Solar, LLC.

Description: Compliance filing: Notice of Change in Status and Revised MBR Tariff to be effective 3/4/2022.

Filed Date: 3/3/22.

Accession Number: 20220303-5086.

Comment Date: 5 p.m. ET 3/24/22.

Docket Numbers: ER21-9-002; ER21-86-002; ER21-88-002.

Applicants: Orange County Energy Storage 3 LLC, Orange County Energy Storage 2 LLC, Henrietta D Energy Storage LLC.

Description: Notice of Non-Material Change in Status of Henrietta D Energy Storage LLC, et al.

Filed Date: 3/3/22.

Accession Number: 20220303-5126.

Comment Date: 5 p.m. ET 3/24/22.

Docket Numbers: ER21-1325-002.

Applicants: ISO New England Inc., New Hampshire Transmission, LLC.

Description: Compliance filing: ISO New England Inc. submits tariff filing per 35: NHT; Filing to Revise Effective Date for Order 864 Revisions to be effective 1/27/2020.

Filed Date: 3/3/22.

Accession Number: 20220303-5101.

Comment Date: 5 p.m. ET 3/24/22.

Docket Numbers: ER21-2217-003.

Applicants: Lincoln Land Wind, LLC.

Description: Compliance filing: Notice of Change in Status and Revised MBR Tariff to be effective 3/4/2022.

Filed Date: 3/3/22.

Accession Number: 20220303-5084.

Comment Date: 5 p.m. ET 3/24/22.

Docket Numbers: ER22-1166-000.

Applicants: Duke Energy Florida, LLC, Duke Energy Progress, LLC, Duke Energy Carolinas, LLC.

Description: Compliance filing: Duke Energy Florida, LLC submits tariff filing per 35: Order No. 676-J Compliance Filing to be effective 12/31/9998.

Filed Date: 3/2/22.

Accession Number: 20220302-5201.

Comment Date: 5 p.m. ET 3/23/22.

Docket Numbers: ER22-1167-000.

Applicants: ISO New England Inc., New England Power Pool Participants Committee.

Description: § 205(d) Rate Filing: ISO New England Inc. submits tariff filing per 35.13(a)(2)(iii: ISO-NE/NEPOOL; Tariff Chgs re Accelerated Billing of FCM Payments and Charges to be effective 5/1/2022.

Filed Date: 3/2/22.

Accession Number: 20220302-5209.

Comment Date: 5 p.m. ET 3/23/22.

Docket Numbers: ER22-1168-000.

Applicants: ISO New England Inc., Cross-Sound Cable Company, LLC.

Description: Compliance filing: ISO New England Inc. submits tariff filing per 35: ISO-NE & Cross-Sound Cable; Revisions to Schedule 18 to be effective 12/31/9998.

Filed Date: 3/2/22.

Accession Number: 20220302-5212.

Comment Date: 5 p.m. ET 3/23/22.

Docket Numbers: ER22-1169-000.

Applicants: MATL LLP.

Description: Compliance filing: Order 676-J Compliance Filing (RM05-5) to be effective 12/31/9998.

Filed Date: 3/2/22.

Accession Number: 20220302-5219.

Comment Date: 5 p.m. ET 3/23/22.

Docket Numbers: ER22-1170-000.

Applicants: Southern Company Services, Inc.

Description: Southern Companies request that the Commission waive compliance requirements for the NAESB business practice standards.

Filed Date: 3/2/22.

Accession Number: 20220302-5225.

Comment Date: 5 p.m. ET 3/23/22.

Docket Numbers: ER22-1171-000.

Applicants: PJM Interconnection, L.L.C.

Description: § 205(d) Rate Filing: Original ISA and ICSA, Service Agreement Nos. 6354 and 6355; Queue No. AD1-130 to be effective 1/31/2022.

Filed Date: 3/2/22.

Accession Number: 20220302-5228.

Comment Date: 5 p.m. ET 3/23/22.

Docket Numbers: ER22-1173-000,

Applicants: Southern Illinois Generation Company, LLC.

Description: § 205(d) Rate Filing: Notice of Change in Status and Change in Seller Categories to be effective 5/3/2022.

Filed Date: 3/3/22.

Accession Number: 20220303-5008.

Comment Date: 5 p.m. ET 3/24/22.

Docket Numbers: ER22-1174-000.

Applicants: Tilton Energy LLC.

Description: § 205(d) Rate Filing: Notice of Change in Status and Change in Seller Categories to be effective 5/3/2022.

Filed Date: 3/3/22.

Accession Number: 20220303-5009.

Comment Date: 5 p.m. ET 3/24/22.

Docket Numbers: ER22-1175-000.

Applicants: Gibson City Energy Center, LLC.

Description: Compliance filing: Notice of Non-Material Change in Status to be effective N/A.

Filed Date: 3/3/22.

Accession Number: 20220303-5014.

Comment Date: 5 p.m. ET 3/24/22.

Docket Numbers: ER22-1176-000.

Applicants: FL Solar 5, LLC.

Description: § 205(d) Rate Filing: FL Solar 5, LLC Revised Tariff Filing to be effective 3/4/2022.

Filed Date: 3/3/22.

Accession Number: 20220303-5021.

Comment Date: 5 p.m. ET 3/24/22.

Docket Numbers: ER22-1177-000.

Applicants: Shelby County Energy Center, LLC.

Description: Compliance filing: Notice of Non-Material Change in Status to be effective N/A.

Filed Date: 3/3/22.

Accession Number: 20220303-5020.

Comment Date: 5 p.m. ET 3/24/22.

Docket Numbers: ER22-1178-000.

Applicants: KCE NY 1, LLC.

Description: § 205(d) Rate Filing: Change in Status 2022 to be effective 3/4/2022.

Filed Date: 3/3/22.

Accession Number: 20220303-5073.

Comment Date: 5 p.m. ET 3/24/22.

Docket Numbers: ER22-1179-000.

Applicants: Plum Creek Wind, LLC.

Description: Market: Notice of Change in Status, Triennial Update, and Revised MBR Tariff to be effective 3/4/2022.

Filed Date: 3/3/22.

Accession Number: 20220303-5078.

Comment Date: 5 p.m. ET 5/2/22.

Docket Numbers: ER22-1180-000.

Applicants: Willow Creek Wind Power LLC.

Description: Market: Notice of Change in Status, Triennial Update, and Revised MBR Tariff to be effective 3/4/2022.

Filed Date: 3/3/22.

Accession Number: 20220303-5079.

Comment Date: 5 p.m. ET 5/2/22.

Docket Numbers: ER22-1181-000.

Applicants: Orsted US Trading LLC.

Description: Market: Notice of Change in Status, Triennial Update, and Revised MBR Tariff to be effective 3/4/2022.

Filed Date: 3/3/22.

Accession Number: 20220303-5081.

Comment Date: 5 p.m. ET 5/2/22.

Docket Numbers: ER22-1182-000.

Applicants: Haystack Wind Project, LLC.

Description: Market: Notice of Change in Status, Triennial Update, and Revised MBR Tariff to be effective 3/4/2022.

Filed Date: 3/3/22.

Accession Number: 20220303-5082.

Comment Date: 5 p.m. ET 5/2/22.

Docket Numbers: ER22-1183-000.

Applicants: Alabama Power Company, Georgia Power Company, Mississippi Power Company.

Description: Tariff Amendment: Alabama Power Company submits tariff filing per 35.15: Camellia Solar LGIA Termination Filing to be effective 3/3/2022.

Filed Date: 3/3/22.

Accession Number: 20220303-5095.

Comment Date: 5 p.m. ET 3/24/22.

Docket Numbers: ER22-1184-000.

Applicants: Inspire Energy Holdings, LLC.

Description: Compliance filing: Notice of Change in Status and Revised MBR Tariff to be effective 3/4/2022.

Filed Date: 3/3/22.

Accession Number: 20220303-5104.

Comment Date: 5 p.m. ET 3/24/22.

Docket Numbers: ER22-1185-000.

Applicants: Constellation Energy Generation, LLC.

Description: § 205(d) Rate Filing: Notice of Succession to Reactive Rate Schedule and Request for Waiver to be effective 3/4/2022.

Filed Date: 3/3/22.

Accession Number: 20220303-5117.

Comment Date: 5 p.m. ET 3/24/22.

Docket Numbers: ER22-1186-000.

Applicants: Arizona Public Service Company.

Description: § 205(d) Rate Filing: Service Agreement No. 397 to be effective 2/1/2022.

Filed Date: 3/3/22.

Accession Number: 20220303-5140.

Comment Date: 5 p.m. ET 3/24/22.

Docket Numbers: ER22-1187-000.

Applicants: J. Aron & Company LLC.

Description: § 205(d) Rate Filing: Revisions to MBR Tariff to Update Category Seller Status in SW and NW Regions to be effective 3/4/2022.

Filed Date: 3/3/22.

Accession Number: 20220303-5142.

Comment Date: 5 p.m. ET 3/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: March 3, 2022.
Debbie-Anne A. Reese,
Deputy Secretary.

[FR Doc. 2022-04951 Filed 3-8-22; 8:45 am]

BILLING CODE 6717-01-P